DEPARTMENT OF JUSTICE

Office of Justice Programs

Agency Information Collection Activities: Proposed Collection; Comments Requested

ACTION: 60-day notice of information collection under review: Census of Medical Examiner and Coroner Offices.

The Department of Justice (DOJ), Office of Justice Programs (OJP), has submitted the following information collection request to the Office of Management and Budget (OMB) for review and approval in accordance with the Paperwork Reduction Act of 1995. The proposed information collection is published to obtain comments from the public and affected agencies. Comments are encouraged and will be accepted for “sixty days” until February 18, 2005. This process is conducted in accordance with 5 CFR 1320.10.

If you have comments, especially on the estimated public burden or associated response time, suggestions, or need a copy of the proposed information collection instrument with instructions or additional information, please contact: Matthew J. Hickman, Bureau of Justice Statistics, Office of Justice Programs, Department of Justice, 810 Seventh Street NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New Collection.

(2) Title of the Form/Collection: Census of Medical Examiner and Coroner Offices.

(3) Agency form number, if any, and the applicable component of the Department sponsoring the collection: Form Number: ME/C-1. Bureau of Justice Statistics, Office of Justice Programs, Department of Justice.

(4) Affected public who will be asked or required to respond, as well as a brief abstract: Primary: State, County, and Local government. Other: None. Under Title 42 U.S.C,. Section 3732 (Attachment 1), the Bureau of Justice Statistics (BJS) is authorized to collect and analyze statistical information regarding the operation of the criminal justice system at the Federal, state, and local levels. Medico-legal death investigation systems are an essential component of the larger criminal justice system. The Census of Medical Examiner and Coroner Offices (CMECO) is a new BJS data collection that will provide a national picture of medico-legal death investigation systems, including personnel, expenditures, functions, workload, and resource needs.

(5) An estimate of the total number of respondents and the amount of time estimated for an average respondent to respond: It is estimated that 3,200 respondents will each complete a 1-hour data collection form.

(6) An estimate of the total public burden (in hours) associated with the collection: The estimated public burden associated with this collection is 3,200 hours.

If additional information is required contact: Brenda E. Dyer, Department Clearance Officer, United States Department of Justice, Justice Management Division, Policy and Planning Staff, Patrick Henry Building, Suite 1600, 601 D Street, NW., Washington, DC 20530.

Dated: December 14, 2004.
Brenda E. Dyer,
Department Clearance Officer, Department of Justice.

[FR Doc. 04-27721 Filed 12-17-04; 8:45 am]

BILLING CODE 4410-18-P